DEPARTMENT OF DEFENSE

Department of the Army; Corps of Engineers

Notice of Intent To Prepare a Draft Environmental Impact Statement for Carolinas Cement Company LLC Castle Hayne Project in New Hanover County, NC

AGENCY: Department of the Army, U.S. Army Corps of Engineers, DoD.

ACTION: Notice of intent.

SUMMARY: The U.S. Army Corps of Engineers (COE), Wilmington District, Wilmington Regulatory Division is amending the request for Department of the Army authorization, pursuant to Section 404 of the Clean Water Act and Section 10 of the Rivers and Harbors Act, from Carolinas Cement Company LLC (a subsidiary of Titan America LLC) to construct the Carolinas Cement Company LLC Castle Hayne Project. This project will include quarrying to support cement manufacturing in northern New Hanover County, NC. The amendment is a change in date and location of the scoping meeting and an extension of the comment period deadline. The original Notice of Intent was published in the Federal Register on May 30, 2008 (73 FR 31072), with a comment deadline of June 30, 2008.

DATES: The public scoping meeting date and location for the DEIS has been changed. Originally it was to be held at Emsley A. Laney High School, 2700 North College Road, Wilmington, NC, June 12, 2008, at 6 p.m. EST, but because of a scheduling conflict with New Hanover County and the lack of air conditioning for the facilities at the High School the meeting had to be rescheduled. The meeting will now take place at Wilmington Christian Academy/Grace Baptist Church, 1401 North College Road, Wilmington, NC, July 1, 2008, at 6 p.m. EST. Also, the comment deadline is being extended from June 30, 2008, to July 15, 2008.

ADDRESSES: Copies of comments and questions regarding scoping of the Draft EIS may be addressed to: U.S. Army Corps of Engineers, Wilmington District, Regulatory Division, ATTN: File Number SAW-2007-00073, P.O. Box 1890, Wilmington, NC 28402-1890.

FOR FURTHER INFORMATION CONTACT: Questions about the proposed action and DEIS can be directed to Mr. Henry Wicker, Regulatory Division, telephone: (910) 251-4930.

SUPPLEMENTARY INFORMATION: None.

Brenda S. Bowen,
Army Federal Register Liaison Officer.

[FR Doc. E8-13100 Filed 6-10-08; 8:45 am]

BILLING CODE 3710-GN-P